DEPARTMENT OF DEFENSE

Department of the Air Force

Intent To Grant an Exclusive License

AGENCY: Department of the Air Force.

SUMMARY: Pursuant to the provisions of Part 404 of Title 37, Code of Federal Regulations, which implements Public Law 96-517, as amended, the Department of the Air Force announces its intention to grant Alexium Ltd, a business entity of Cyprus, having a place of business at 2 Sophouli Street, Chanteclair House, 1096-Nicosia, Cyprus, Europe, an exclusive license in any right, title and interest the Air Force has in: U.S. Patent Application No. 12/543,576 filed August 19, 2009, entitled “Coatings for Disease Control” by Jeffrey R. Owens, as well as other related know how. A license for this patent and related know how will be granted unless a written objection is filed within fifteen (15) days from the date of publication of this Notice.

FOR FURTHER INFORMATION CONTACT: Jeffrey R. Moore, Attorney, Air Force Materiel Command Law Office, AFMCLO/JAZ, Building 11, Room E4, 2240 B Street, Wright-Patterson AFB, OH 45433-7109. Telephone: (937) 904-5088; Facsimile (937) 255-3733.

Bao-Anh Trinh,
Air Force Federal Register Liaison Officer.

[FR Doc. E9-24587 Filed 10-9-09; 8:45 am]

BILLING CODE 5001-05-P